DEPARTMENT OF ENERGY

Federal Energy Regulatory Commission

[Project No. 15027-000]

Agate Energy Park, LLC; Notice of Preliminary Permit Application Accepted for Filing and Soliciting Comments, Motions To Intervene, and Competing Applications

On April 21, 2020, the Agate Energy Park, LLC, filed an application for a preliminary permit, pursuant to section 4(f) of the Federal Power Act (FPA), proposing to study the feasibility of the proposed Agate Closed Loop Pumped Storage Hydro Project No. 15027-000, to be located in Twin Falls County, near the town of Rogerson and Twin Falls, Idaho. The sole purpose of a preliminary permit, if issued, is to grant the permit holder priority to file a license application during the permit term. A preliminary permit does not authorize the permit holder to perform any land-disturbing activities or otherwise enter upon lands or waters owned by others without the owners' express permission.

The proposed project would consist of the following: (1) A 3,000-foot-long, 1,000-foot-wide, oval-shaped upper impoundment created by a 5,700-foot- long, 75-foot-high earthen and/or roller compacted concrete embankment; (2) a 1,900-foot-long, 1,900-foot-wide, square-shaped lower reservoir formed by a 7,600-foot-long, 75-foot-high earthen and/or roller compacted concrete embankment; (3) a 5,000-foot-long, 18-foot-diameter steel penstock; (4) a 400-foot-long, 115-foot-wide powerhouse below grade and located adjacent to the lower reservoir housing three Quaternary units rated at 133 Mega-watt each; (5) a 7.5 mile-long transmission line interconnecting to existing transmission line owned by Idaho Power; and (6) appurtenant facilities. The proposed project would have an annual generation of 1,300 Gigawatt-hours.

Applicant Contact: Mr. Carl Borgquist, 612 East Main Street, Suite C, P.O. Box 309, Bozeman, MT 59771; phone: (406) 585-3006.

FERC Contact: Maryam Zavareh; phone: (202) 502-8474; email: Maryam.Zavareh@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

More information about this project, including a copy of the application, can be viewed or printed on the eLibrary link of Commission's website at http://www.ferc.gov/docs-filing/elibrary.asp. Enter the docket number (P-15027) in the docket number field to access the document. For assistance, contact FERC Online Support.

Dated: May 18, 2020.
Kimberly D. Bose,
Secretary.

[FR Doc. 2020-11119 Filed 5-21-20; 8:45 am]

BILLING CODE 6717-01-P